SECURITIES AND EXCHANGE COMMISSION

[SEC File No. 270-101, OMB Control No. 3235-0082]

Submission for OMB Review; Comment Request

Upon Written Request Copies Available From: Securities and Exchange Commission, Office of FOIA Services, 100 F Street NE., Washington, DC 20549-2736.

Extension: Form 11-K.

Notice is hereby given that, pursuant to the Paperwork Reduction Act of 1995 (44 U.S.C. 3501 et seq.), the Securities and Exchange Commission (“Commission”) has submitted to the Office of Management and Budget this request for extension of the previously approved collection of information discussed below.

Form 11-K (17 CFR 249.311) is the annual report designed for use by employee stock purchase, savings and similar plans to comply with the reporting requirements under Section 15(d) of the Securities and Exchange Act of 1934 (the “Exchange Act”) (15 U.S.C. 78o(d)). Section 15(d) establishes a periodic reporting obligation for every issuer of securities registered under the Securities Act of 1933 (the “Securities Act”)(15 U.S.C. 77a et seq.). Form 11-K provides employees of an issuer with financial information so that they can assess the performance of the stock plan or investment vehicle. The information collected must be filed with the Commission and is publicly available. Form 11-K takes approximately 30 hours per response and is filed by 1,761 respondents for total of 52,830 burden hours (30 hours per response × 1,761 responses).

An agency may not conduct or sponsor, and a person is not required to respond to, a collection of information unless it displays a currently valid control number.

The public may view the background documentation for this information collection at the following Web site, www.reginfo.gov. Comments should be directed to: (i) Desk Officer for the Securities and Exchange Commission, Office of Information and Regulatory Affairs, Office of Management and Budget, Room 10102, New Executive Office Building, Washington, DC. 20503, or by sending an email to: Shagufta_Ahmed@omb.eop.gov; and (ii) Pamela Dyson, Director/Chief Information Officer, Securities and Exchange Commission, c/o Remi Pavlik-Simon, 100 F Street NE., Washington, DC 20549 or send an email to: PRA_Mailbox@sec.gov. Comments must be submitted to OMB within 30 days of this notice.

Dated: November 10, 2015.
Robert W. Errett,
Deputy Secretary.

[FR Doc. 2015-29203 Filed 11-16-15; 8:45 am]

BILLING CODE 8011-01-P